DEPARTMENT OF ENERGY

Federal Energy Regulatory Commission

[Project No. 1888-030—Pennsylvania, Project No. 2355-018—Pennsylvania/Maryland, Project No. 405-106—Maryland]

York Haven Power Company, Exelon Generation Company; Notice of Availability of the Final Environmental Impact Statement for the Susquehanna River Hydroelectric Projects

In accordance with the National Environmental Policy Act of 1969 and the Federal Energy Regulatory Commission (Commission or FERC) regulations contained in the Code of Federal Regulations (CFR) (18 CFR part 380), the Office of Energy Projects has reviewed the applications for license for the York Haven Hydroelectric Project (FERC No. 1888), the Muddy Run Pumped Storage Project (FERC No. 2355), and the Conowingo Hydroelectric Project (FERC No. 405) and prepared a final multi-project environmental impact statement (EIS).

The existing York Haven Project is located on the Susquehanna River at river mile (RM) 55 in the city of York, in York, Dauphin, and Lancaster Counties, Pennsylvania. The project does not occupy any federal lands. The Muddy Run and Conowingo Projects are located on the Susquehanna River at RM 22 and RM 10, respectively, in Lancaster and York Counties, Pennsylvania, and Cecil and Harford Counties, Maryland. Conowingo Pond, the reservoir for the Conowingo Project, acts as the lower reservoir for the Muddy Run Project. The Muddy Run Project also includes an upper reservoir for pumped storage operation. The projects do not occupy any federal lands.

The final EIS contains staff's analysis of the applicants' proposals and the alternatives for relicensing the York Haven, Muddy Run, and Conowingo Projects. The final EIS documents the views of governmental agencies, non-governmental organizations, affected Indian tribes, the public, the license applicants, and Commission staff.

A copy of the final EIS is available for review at the Commission or may be viewed on the Commission's Web site at http://www.ferc.gov, using the “e-Library” link. Enter one of the docket numbers, excluding the last three digits, to access the document. For assistance, contact FERC Online Support at FERCOnlineSupport@ferc.gov or toll-free at (866) 208-3676, or for TTY, contact (202) 502-8659.

You may also register online at http://www.ferc.gov/docs-filing/esubscription.asp to be notified via email of new filings and issuances related to this or other pending projects. For assistance, contact FERC Online Support.

For further information, please contact Emily Carter at (202) 502-6512 or at emily.carter@ferc.gov.

Dated: March 11, 2015.
Kimberly D. Bose,
Secretary.

[FR Doc. 2015-06077 Filed 3-17-15; 8:45 am]

BILLING CODE 6717-01-P